DEPARTMENT OF JUSTICE

Drug Enforcement Administration

[Docket No. DEA-724]

Importer of Controlled Substances Application: Fisher Clinical Services, Inc.

AGENCY: Drug Enforcement Administration, Justice.

ACTION: Notice of application.

SUMMARY: Fisher Clinical Services, Inc. has applied to be registered as an importer of basic class(es) of controlled substance(s). Refer to SUPPLEMENTARY INFORMATION listed below for further drug information.

DATES: Registered bulk manufacturers of the affected basic class(es), and applicants therefore, may file written comments on or objections to the issuance of the proposed registration on or before October 26, 2020. Such persons may also file a written request for a hearing on the application on or before October 26, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All request for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on July 31, 2020, Fisher Clinical Services, Inc., 700A-C Nestle Way, Breinigsville, Pennsylvania 18031-1522, applied to be registered as an importer of the following basic class(es) of controlled substance(s):

Controlled substance | Drug code | Schedule
Psilocybin | 7437 | I
Methylphenidate | 1724 | II
Levorphanol | 9220 | II
Noroxymorphone | 9668 | II
Tapentadol | 9780 | II

The company plans to import the listed controlled substances for clinical trials.

William T. McDermott,
Assistant Administrator.

[FR Doc. 2020-21083 Filed 9-23-20; 8:45 am]

BILLING CODE 4410-09-P